DEPARTMENT OF COMMERCE

International Trade Administration

[A-570-912]

Certain New Pneumatic Off-the-Road Tires From the People's Republic of China: Initiation of New Shipper Review

AGENCY: Import Administration, International Trade Administration, Department of Commerce.

DATES: May 4, 2012.

SUMMARY: The Department of Commerce (the “Department”) has determined that a request for a new shipper review of the antidumping duty order on certain new pneumatic off-the-road tires (“tires”) from the People's Republic of China (“PRC”), received on March 30, 2012, meets the statutory and regulatory requirements for initiation. The period of review (“POR”) of this new shipper review is September 1, 2011, through February 29, 2012.

FOR FURTHER INFORMATION CONTACT: Wendy Frankel or Raquel Silva, AD/CVD Operations, Office 8, Import Administration, International Trade Administration, U.S. Department of Commerce, 14th Street and Constitution Avenue NW., Washington, DC 20230; telephone: (202) 482-5849 and (202) 482-6475, respectively.

SUPPLEMENTARY INFORMATION:

Background

The notice announcing the antidumping duty order on tires from the PRC was published in the Federal Register on September 4, 2008.¹ On March 30, 2012, we received a timely request for a new shipper review from Trelleborg Wheel Systems (Xingtai) China Co. Ltd. (“TWS China”).² On April 16, 2012, the Department requested further information regarding discrepant and incomplete information in TWS China's request.³ On April 18, 2012, TWS China submitted its response, which included documentation demonstrating that it has requested to file a corrected 7501 Entry form with U.S. Customs and Border Protection (“CBP”) to correct the manufacturer identification number and name on this form.⁴ TWS China has certified that it produced all of the tires it exported, which is the basis for its request for a new shipper review.⁵

¹ See Certain New Pneumatic Off-the-Road Tires From the People's Republic of China: Notice of Amended Final Affirmative Determination of Sales at Less Than Fair Value and Antidumping Duty Order, 73 FR 51624 (September 4, 2008).

² See Letter from TWS China entitled “New Shipper Review Request of Trelleborg Wheel Systems (Xingtai) China, Co. Ltd.: New Pneumatic Off-The-Road Tires from the People's Republic of China,” dated March 29, 2012 (“NSR Request”).

³ See Letter from the Department entitled “New Shipper Review of the Antidumping Duty Order on Certain New Pneumatic Off-the Road Tires from the People's Republic of China: Request for Further Information,” dated April 16, 2012.

⁴ See Letter from TWS China entitled “New Shipper Review Request of Trelleborg Wheel Systems (Xingtai) China, Co. Ltd.: New Pneumatic Off-The-Road Tires from the People's Republic of China; Response To April 16, 2012 Supplemental Questionnaire,” dated April 18, 2012.

⁵ See NSR Request, at pg 1.

Pursuant to the requirements set forth in 19 CFR 351.214(b)(2)(i), 19 CFR 351.214(b)(2)(iii)(A) and 19 CFR 351.214(b)(2)(iii)(B), in its request for a new shipper review, TWS China, as an exporter and producer, certified that: (1) It did not export tires to the United States during the period of investigation (“POI”); ⁶ (2) since the initiation of the investigation, TWS China has never been affiliated with any company that exported subject merchandise to the United States during the POI; ⁷ and (3) its export activities were not controlled by the central government of the PRC.⁸ In accordance with 19 CFR 351.214(b)(2)(iv), TWS China submitted documentation establishing the following: (1) The date on which it first shipped tires for export to the United States and the date on which the tires were first entered, or withdrawn from warehouse, for consumption; ⁹ (2) the volume of its first shipment; ¹⁰ and (3) the date of its first sale to an unaffiliated customer in the United States.¹¹

⁶ See NSR Request, at Exhibit 2.

⁷ See NSR Request, at Exhibit 3.

⁸ See NSR Request, at Exhibit 4.

⁹ See NSR Request, at Exhibit 1.

¹⁰ See Id.

¹¹ See Id.

Initiation of New Shipper Review

Pursuant to section 751(a)(2)(B) of the Tariff Act of 1930, as amended (the “Act”) and 19 CFR 351.214(d)(1), we find that the request submitted by TWS China meets the threshold requirements for initiation of a new shipper review for shipments of tires from the PRC produced and exported by TWS China, pending its correction of the information discussed above.¹² Accordingly, TWS China must correct the manufacturer identification number and name on the 7501 Entry form with CBP in an appropriate amount of time to avoid rescission of this review. Furthermore, if the information supplied by TWS China is later found to be incorrect or insufficient during the course of this proceeding, the Department may rescind the review or apply adverse facts available, depending upon the facts on record. The POR is September 1, 2011, through February 29, 2012.¹³ The Department will conduct this review according to the deadlines set forth in section 751(a)(2)(B)(iv) of the Act.

¹² See Memorandum to the File through Wendy J. Frankel entitled, “Certain New Pneumatic Off-the-Road Tires from the People's Republic of China: Initiation of AD New Shipper Review for Trelleborg Wheel Systems (Xingtai) China, Co. Ltd.,” dated April 23, 2012.

¹³ See 19 CFR 351.214(g)(1)(i)(B).

It is the Department's usual practice, in cases involving non-market economies, to require that a company seeking to establish eligibility for an antidumping duty rate separate from the country-wide rate provide evidence of de jure and de facto absence of government control over the company's export activities. Accordingly, included in our questionnaire will be specific questions for ascertaining its eligibility for a separate rate. The review will proceed if the responses provide sufficient indication that TWS China is not subject to either de jure or de facto government control with respect to its export of tires.

We will instruct CBP to allow, at the option of the importer until the completion of the review, the posting of a bond or security in lieu of a cash deposit for each entry of the subject merchandise from TWS China in accordance with section 751(a)(2)(B)(iii) of the Act and 19 CFR 351.214(e). Because TWS China certified that it both produced and exported the subject merchandise, the sale of which is the basis for this new shipper review request, we will apply the bonding privilege to TWS China only for subject merchandise which TWS China both produced and exported. Interested parties requiring access to proprietary information in this new shipper review should submit applications for disclosure under administrative protective order in accordance with 19 CFR 351.305 and 19 CFR 351.306.

This initiation and notice are in accordance with section 751(a)(2)(B) of the Act and 19 CFR 351.214 and 19 CFR 351.221(c)(1)(i).

Dated: April 30, 2012.
Christian Marsh,
Deputy Assistant Secretary for Antidumping and Countervailing Duty Operations.

[FR Doc. 2012-10840 Filed 5-3-12; 8:45 am]

BILLING CODE 3510-DS-P